DEPARTMENT OF TRANSPORTATION

Federal Aviation Administration

14 CFR Part 73

[Docket No. FAA-2021-0650; Airspace Docket No. 21-AWP-11]

RIN 2120-AA66

Establishment of Restricted Area R-2511; Trona, CA

AGENCY: Federal Aviation Administration (FAA), Department of Transportation (DOT).

ACTION: Final rule.

SUMMARY: This action establishes restricted area R-2511 in the vicinity of Trona, CA in support of the Naval Air Warfare Center Weapons Division (NAWCWD), China Lake, CA. The restricted area is necessary to segregate the testing and evaluation of hazardous weapons systems, and other unproven aviation platforms in the early development cycle from non-participating aircraft.

DATES: Effective date 0901 UTC, December 29, 2022.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it establishes restricted area airspace in the vicinity of Trona, CA, to contain activities deemed hazardous to non-participating aircraft.

History

The FAA published a notice of proposed rulemaking (NPRM) for Docket No. FAA-2021-0650 in the Federal Register (86 FR 57611; October 18, 2021) proposing to establish restricted area R-2511 in the vicinity of Trona, CA, to support testing and training activities by the Naval Air Warfare Center Weapons Division (NAWCWD), China Lake, CA. R-2511 is needed to provide a connection between restricted areas R-2505 and R-2524 to segregate the testing and evaluation of hazardous weapons systems, and other unproven aviation platforms in the early development cycle from non-participating aircraft. NAWCWD will use R-2511 to contain free flight weapons systems as they transit from launch areas within R-2505 to target areas within R-2524, and/or from launch areas within R-2524 to target areas within R-2505. This airspace, situated between restricted areas R-2505 and R-2524, has been variously referred to as: Trona Pass, Trona Corridor, or Trona Gap.

Since 1995, the containment of military hazardous weapons system activities transiting the airspace between R-2505 and R-2524 was accomplished through the use of a controlled firing area (CFA) located in that airspace between R-2505 and R-2524. The FAA has determined that a CFA is not the appropriate type of special use airspace (SUA) for this activity because CFAs are not depicted on aeronautical charts, and because hazardous activity in a CFA must be immediately suspended upon observation or notification that a non-participating aircraft is approaching the area. Based on these criteria, a CFA is not practical for accommodating NAWCWD's mission requirements.

A restricted area is the appropriate type of SUA to safely segregate hazardous activities from non-participating aircraft operating in this area. Restricted areas are depicted on aeronautical charts allowing for ready identification by pilots. R-2511, which replaces the CFA, was designed with the same lateral and vertical parameters as the Trona CFA.

Interested parties were invited to submit comments on the NPRM. A total of 65 comments were posted to the regulations.gov website in response to the NPRM. Comments were received from the following organizations: Aircraft Owners and Pilots Association (AOPA); Centurion Flight Services; Golden State Air Charter; Loyd's Aviation; and, Soaring Society of America (SSA). In addition, 58 individuals submitted comments. Two individuals submitted their comment twice. The issues raised by the commenters are addressed below.

Discussion of Comments

Some commenters questioned the need for establishing R-2511 contending that there is already enough existing restricted airspace in the area which should be used to accomplish the NAWCWD's hazardous activities.

In response, the NAWCWD considered whether there are alternatives to the proposed R-2511 that might meet the Research, Development, Acquisition, Testing, and Evaluation (RDAT&E) and training mission requirements. To qualify, the SUA must be able to accommodate the flight profile requirements; the launch and target areas must have the supporting ground infrastructure needed to properly conduct RDAT&E events, score tests, and record results; the impact areas must be on government owned or controlled land; and the capability to simulate various radio frequency (RF) threats to weapon and aircraft systems is required. Changing the dimensions of the current restricted areas R-2505 or R-2524 to fully accommodate the mission was not feasible because the NAWCWD does not own or manage the land under any proposed expansion of those areas.

The Navy also determined that using other existing restricted areas in the vicinity to conduct free flight weapons tests do not meet the screening requirements for appropriate ground infrastructure, and the capability to test the operation of systems in an RF-contested environment. The combined use of R-2511, R-2505, and R-2524 satisfies all of the above screening criteria to support the NAWCWD's testing and training needs. As discussed above, since 1995, these activities have been safely conducted by using the Trona CFA to connect R-2505 and R-2524. Because the CFA must be replaced, and the operation cannot be moved elsewhere, R-2511 is the appropriate solution to provide connectivity between R-2505 and R-2524.

Many commenters expressed concerns that R-2511 would impose a significant adverse impact on gliders and general aviation aircraft, traversing the Trona Pass. They noted that the Trona Pass is a key route between the Los Angeles Basin and points east and northeast. Further, some commenters wrote that R-2511 would have a dramatic impact on glider operations conducting cross-country flights through the Trona Pass. Gliders must operate at significantly higher altitudes in order to obtain the lift they need. In addition, the commenters asserted that the Trona Pass is the only safe path for gliders to return to their home base when convective weather prevents other transitions.

The FAA expects the impact to gliders and general aviation aircraft to be minimal. This is mainly due to the relatively infrequent use and short activation periods established for R-2511. By rule, R-2511 must be activated by Notice to Air Missions (NOTAM) issued at least 7-days in advance. Additionally, the airspace can only be activated between 0700-1700 hours, Monday-Friday. Activation is further limited to no more than two 2-hour periods per day, with a maximum annual usage of 36 days per year. This equates to a potential usage of 144 hours out of 8,760 hours per year, affording the aviation community the ability to plan flights around these limited activation times, as well as the option to fly beneath R-2511 when it is active, if conditions permit.

Commenters also expressed concerns that the NOTAM system is difficult for pilots to use to obtain pre-flight information on the status of SUAs, and that it is even more difficult to confirm the status of SUAs once airborne.

In 2019, the FAA created the NOTAM Modernization Initiative to make needed improvements to the NOTAM system. There is now a single FAA website called “NOTAM Search” that enables pilots to access all NOTAMs. NOTAM Search includes significant enhancements to the search process such as the ability to query applicable NOTAMs based on the planned route of flight, and to view only those NOTAMs that are effective during a specific time period. NOTAM search can be accessed at https://notams.aim.faa.gov/notamSearch. In addition, the FAA's SUA website provides SUA schedule data for the next 24 hour period. The SUA website can be accessed at https://sua.faa.gov. Finally, for R-2511, the FAA must issue the NOTAM 7-days in advance.

A number of commenters stated that the Los Angeles Visual Flight Rules (VFR) Sectional Aeronautical Chart should be updated to include additional annotations clarifying the limited activity and the means to verify the status of R-2511.

The Los Angeles VFR Sectional Aeronautical Chart does contain a table that lists all SUA covered by the chart. The table includes the altitudes, times of use, contact facility, and frequencies for each SUA area. Data pertinent to R-2511 will be added to the SUA table on the Los Angeles Sectional Aeronautical Chart. In addition a chart note will be added in the vicinity of R-2511 with a point of contact at Joshua Control Facility (JCF) (the FAA controlling agency) for R-2511 activity status.

Several commenters suggested that the FAA either renew the Trona CFA or establish a temporary flight restriction (TFR) instead of creating R-2511.

Renewing the CFA is not an option because, as described above, CFAs are not depicted on aeronautical charts, and the activity within a CFA must be immediately suspended if a non-participating aircraft approaches. This requirement is incompatible with the proponent's mission requirements. A restricted area is the appropriate SUA to contain this activity.

The FAA considered the use of TFRs in lieu of restricted airspace and found that the activity conducted in R-2511 does not meet the criteria for a TFR in accordance with 14 CFR part 91, General Operating and Flight Rules. Part 91 does not contain a specific TFR regulatory section that would cover the operations in R-2511. A restricted area is the appropriate designation to segregate hazardous activities from nonparticipating aircraft.

Other commenters stated that pilots tend to avoid restricted areas, even when they are not active. This can lead to unnecessary detours, and cause some pilots to avoid the airspace even when encountering difficulties, possibly resulting in safety concerns.

Due to the infrequent activation of R-2511, and the requirement that a NOTAM be issued at least 7-days in advance of activation, pilots should expect that the Trona Pass would be available for transit at all altitudes the majority of the time. However, the advance notification requirements should provide pilots sufficient time to plan flights around the times R-2511 is activated. Additionally, a note will be depicted on the Los Angeles Sectional Aeronautical Chart, in the vicinity of R-2511, with a Very High Frequency contact frequency for use in verifying the status of the restricted area.

Commenters stated that the proposed 6,000-foot MSL restricted area floor is too low for adequate terrain clearance and radio communication. Other commenters suggested raising the floor of R-2511 from 6,000 feet MSL to 9,000 feet MSL, or 14,000 feet MSL to provide increased terrain clearance for transiting below R-2511.

The Navy evaluated stratification of R-2511 altitudes but determined that it is not practical for mission accomplishment. Most weapons that will be launched across the corridor will vary their flight altitude, either climbing to establish a “look-down” aspect or, descending on their path toward their target. Additionally, the weapon's altitude is expected to vary somewhat based on the shooter aircraft's launch tolerances and weather conditions at the time.

Regarding communications coverage, the FAA controlling agency, JCF, and the Frequency Management Officer have no reports of radio communication issues. To ensure low-flying aircraft have good radio coverage to the east of Trona/China Lake (over Death Valley), even down as low as 1,000 feet AGL, JCF has three radio sites using 120.25 megahertz to communicate in the area of the Trona Pass. JCF monitors all three sites and transmits on the optimal site based on the aircraft's location. If necessary JCF also has tunable radios at other sites which could be used based on aircraft location.

Several commenters maintained that the restricted area, when active, poses a safety risk to vehicular traffic on California State Highway (SR) 178 which lies beneath R-2511. The commenters were concerned that these experimental and unpredictable weapons could cause fallout and render SR 178 blocked or damaged, which would impact the Trona residents as SR 178 is the only road to and from the Searles Valley.

Experience with operations conducted in this area through the Trona CFA since 1995, reveals an excellent safety record with no history of operational incidents. There has been no documented impact to SR 178 or the surrounding area. R-2511 replaces the Trona CFA using the same operational safety requirements including: Weapons must be launched far enough within R-2505 or R-2524 so that a malfunction during this critical phase of flight results in a ground impact on military property; all weapons transiting R-2511 will have a Flight Termination System (FTS) capable of terminating the weapon's flight and ensuring it does not leave a predetermined corridor; and, weapon system health and status will be evaluated prior to launch and continuously throughout the flight. Typically, the FTS is activated by the Flight Termination Officer based on the missile's flight path and “health” as monitored by on-board telemetry systems. A weapon will not be allowed to enter R-2511 unless there is a high degree of certainty that it will safely transit through R-2511 and into its target area in R-2505 or R-2524.

A number of commenters expressed concern that the restricted area will block the Trona Pass, increasing the average flying time in the area by 20 minutes. This increase in flight times could have an adverse effect on time critical MEDEVAC and organ donor flights to and from Las Vegas.

The FAA provides priority handling to civil air ambulance flights when the pilot, in radio transmissions, verbally identifies the flight by stating “MEDEVAC.” The FAA will develop a Letter of Procedure (LOP) with the NAWCWD (the using agency) to define the specific terms regarding the recall of R-2511 by the FAA controlling agency when needed for MEDEVAC flights, emergencies, and weather deviations.

Two commenters wrote that once R-2511 is approved, there is nothing to stop the times of designation from being increased.

As described above, the activation of R-2511 is subject to specific limitations contained in the regulatory text. The airspace can only be activated between 0700-1700 hours, local time, Monday-Friday, by a NOTAM issued at least 7-days in advance. In addition, activation of R-2511 is limited to a maximum of 36 days per year and no more than two 2-hour periods per day. The provisions limiting the activation of R-2511 are written into the legal description of R-2511. Therefore, they cannot be changed arbitrarily. The provisions can only be amended by additional rulemaking action pursuant to 14 CFR part 73. This would require a new NPRM, which would include a 45-day public comment period, before any FAA decision to approve or disapprove the changes.

The Rule

This action amends 14 CFR part 73 by establishing restricted area R-2511 in the vicinity of Trona, CA, to support a request from NAWCWD, China Lake, CA.

R-2511 is located in the airspace between restricted areas R-2505 and R-2524 in an area informally known as the Trona Pass. R-2511 consists of the same lateral and vertical boundaries as the former uncharted Trona CFA. R-2511 replaces the CFA to provide a connection between R-2505 and R-2524. The designated altitudes extend from 6,000 feet mean sea level (MSL), to but not including 20,000 feet MSL. The time of designation is: Intermittent, 0700-1700, local time, Monday-Friday, as activated by a Notice to Air Missions (NOTAM) issued at least 7-days in advance. Activation is limited to no more than 36 days per year, and a maximum of two 2-hour blocks per day. R-2511 is a joint-use restricted area meaning that, when the operation for which the area was activated is completed, the restricted area will be returned to the controlling agency for access by other airspace users.

This rule does not change or modify any current military flight activities or weapons testing that already occurs in the existing airspace.

Regulatory Notices and Analyses

The FAA determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this rulemaking action of establishing restricted area R-2511, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this rulemaking action is not expected to result in any potentially significant environmental impacts. In accordance with FAA Order 1050.1F, paragraph 5-2 regarding Extraordinary Circumstances, the FAA has reviewed this action for factors and circumstances in which a normally categorically excluded action may have a significant environmental impact requiring further analysis. For this rulemaking action, the FAA has determined that no extraordinary circumstances exist that warrant preparation of an environmental assessment or environmental impact study. On May 3, 2022, and in accordance with FAA Order 1050.1F, paragraph 8-2—Adoption of Other Agencies' NEPA Documents, the FAA adopted Naval Air Weapons Center Weapons Division's (NAWCWD) Final Environmental Assessment (FEA) and Finding of No Significant Impact/Record of Decision (FONSI) for the establishment of R-2511, at the Naval Air Weapons Station China Lake (NAWSCL). NAWCWD finalized its FEA and signed the FONSI on April 28, 2022.

Establishment of R-2511 would confine or segregate activities considered hazardous to non-participating aircraft, defined as any aircraft (military or civilian) not actively involved in the research, development, acquisition, test, and evaluation (RDAT&E) activities within the restricted area, when activated. As the lead agency, the Navy prepared the FEA in accordance with the National Environmental Policy Act (NEPA). The Navy invited the FAA to participate as a cooperating agency based on FAA's jurisdiction by law over special use airspace (SUA) which includes restricted areas as defined in FAA Order 7400.2. As a cooperating agency, the FAA coordinated the NEPA environmental impact analysis reviews closely with the Navy, and actively participated in the preparation of the Navy's FEA. In accordance with FAA Order 1050.1F, Environmental Impacts: Policies and Procedures, and the Council on Environmental Quality's (CEQ) NEPA implementing regulations at 40 CFR part 1500, the FAA conducted an independent evaluation and analysis of the NAWCWD FEA and adopted it in support of FAA's decision to establish R-2511 for implementation of the Navy's proposed action. Based on the environmental impact analyses in the Navy's FEA, the FAA has determined that it's Proposed Action of establishing R-2511, and the Navy's use of R-2511, would not result in any significant environmental impacts.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.25 California [Amended]

2. Section 73.25 is amended as follows:

* * * * *

R-2511 Trona, CA [New]

Boundaries. Beginning at lat. 35°37′30″ N; long. 117°35′33″ W; to lat. 35°40′30″ N; long. 117°25′03″ W; to lat. 35°36′00″ N; long. 117°16′55″ W; to lat. 35°36′00″ N; long. 117°26′03″ W; to lat. 35°27′40″ N; long. 117°26′03″ W; to the point of beginning.

Designated Altitudes. 6,000 feet MSL, to but not including, FL 200.

Time of Designation. Intermittent, 0700-1700 local time, Monday-Friday; as activated by NOTAM at least 7-days in advance. Activation limited to no more than 36 days per year, and a maximum of two 2-hour blocks each day.

Controlling Agency. FAA, Joshua Control Facility, Edwards Air Force Base, CA.

Using Agency. Naval Air Warfare Center Weapons Division, China Lake, CA.

* * * * *

Issued in Washington, DC, on October 17, 2022.
Scott M. Rosenbloom,
Manager, Airspace Rules and Regulations.

[FR Doc. 2022-22783 Filed 10-19-22; 8:45 am]

BILLING CODE 4910-13-P